ENVIRONMENTAL PROTECTION AGENCY

[EPA-HQ-OLEM-2022-0415; FRL-9825-01-OLEM]

Draft National Strategy for Reducing Food Loss and Waste and Recycling Organics: Request for Public Comment

AGENCY: Environmental Protection Agency (EPA).

ACTION: Notice of availability.

SUMMARY: The Environmental Protection Agency (EPA), U.S. Department of Agriculture (USDA) and Food and Drug Administration (FDA) have developed the Draft National Strategy for Reducing Food Loss and Waste and Recycling Organics (“draft Strategy”) to help prevent the loss and waste of food, where possible, increase recycling of food and other organic materials to support a more circular economy for all, reduce greenhouse gas emissions, save households and businesses money, and build cleaner and healthier communities. Individually and collectively, the EPA, USDA and FDA are working toward reducing food loss and waste through their Federal interagency collaboration. This Notice provides the public with an opportunity to share input on the draft Strategy, which identifies the EPA, USDA and FDA actions and asks where they can work collaboratively with each other and partners to reduce food loss and waste and recycle organics. These Federal agencies are seeking public comment from diverse partners across the food system. The EPA, USDA and FDA will consider the comments received on this draft Strategy, finalize it, and begin implementation of the final Strategy in 2024.

DATES: Comments must be received on or before January 4, 2024.

ADDRESSES: You may send comments, identified by Docket ID No. EPA-HQ-OLEM-2022-0415, by any of the following methods:

• Federal eRulemaking Portal: https://www.regulations.gov/ (our preferred method). Follow the online instructions for submitting comments.

• Mail: U.S. Environmental Protection Agency, EPA Docket Center, Office of Land and Emergency Management Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m.-4:30 p.m., Monday-Friday (except Federal Holidays).

Instructions: All submissions received must include the Docket ID No. for this action. Comments received may be posted without change to https://www.regulations.gov/, including any personal information provided. For detailed instructions on sending comments and additional information, see the “Public Participation” heading of the SUPPLEMENTARY INFORMATION section of this document.

FOR FURTHER INFORMATION CONTACT: Hannah Blaufuss, Resource Conservation and Sustainability Division, Office of Resource Conservation and Recovery, Office of Land and Emergency Management (5306T), U.S. Environmental Protection Agency, 1200 Pennsylvania Ave. NW, Washington, DC 20460; telephone number: 202-564-5614; email address: SMMFood@epa.gov. For more information on this strategy and others developed as part of EPA's Series on Building a Circular Economy for All, please visit https://www.epa.gov/circulareconomy.

SUPPLEMENTARY INFORMATION:

I. Public Participation

A. Written Comments

Response to this request for public comment is voluntary. Submit your comments, identified by Docket ID No. EPA-HQ-OLEM-2022-0415 at https://www.regulations.gov (our preferred method), or the other methods identified in the ADDRESSES section. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. General Information

A. What is the purpose of this request for public comment?

The Draft National Strategy for Reducing Food Loss and Waste and Recycling Organics aims to prevent the loss and waste of food, where possible; increase recycling of food and other organic materials to support a more circular economy for all, reduce greenhouse gas emissions, save households and businesses money, and build cleaner, healthier communities. The three Federal agencies have a formal interagency agreement focusing on the cooperation and coordination of efforts to reduce food loss and waste. To achieve the desired results, the EPA, USDA and FDA are seeking input from diverse partners—including local, State, Tribal, and territorial governments; professional and industry associations; individuals, private companies, and those working in food and agricultural industries; academic institutions; and non-governmental and community-based organizations. The actions detailed in this draft Strategy will help the U.S. meet its National Food Loss and Waste Reduction Goal to halve food loss and waste and contribute to the National Recycling Goal to achieve a 50 percent recycling rate by 2030, as well as contribute to global achievement of the United Nations Sustainable Development Goal Target 12.3. Preventing food loss and waste and recycling food and other organic waste will also reduce landfill methane emissions, in support of the U.S. Methane Emissions Reduction Action Plan, which identified food waste prevention and organic waste diversion as the top two methane emissions reduction strategies for municipal solid waste.

The draft Strategy identifies concrete steps, and complementary EPA, USDA, and FDA actions, that will help accelerate the prevention of food loss and waste, where possible, and recycling of the remainder with other organic waste, across the entire supply chain.

The EPA, USDA and FDA are seeking input from individuals and partners on what additional EPA, USDA and FDA actions should be included or modified in the Strategy and how best to collaborate on those efforts with each other and partners across the food system. Specific actions ultimately adopted will be informed by evidence-based research to the extent available and partner engagement, implemented through technical and financial assistance, pilots and programs, and policies, where appropriate and be within each agencies' legal authorities. The EPA, USDA and FDA will consider the comments received on this draft Strategy, finalize it, and begin implementation of the final Strategy in 2024.

Dated: November 28, 2023.
Carolyn Hoskinson,
Director, Office of Resource Conservation and Recovery.

[FR Doc. 2023-26574 Filed 12-4-23; 8:45 am]

BILLING CODE 6560-50-P